SMALL BUSINESS ADMINISTRATION

[Disaster Declaration #17153 and #17154; Louisiana Disaster Number LA-00116]

Presidential Declaration Amendment of a Major Disaster for Public Assistance Only for the State of Louisiana

AGENCY: U.S. Small Business Administration.

ACTION: Amendment 3.

SUMMARY: This is an amendment of the Presidential declaration of a major disaster for Public Assistance Only for the State of Louisiana (FEMA-4611-DR), dated 09/07/2021.

Incident: Hurricane Ida.

Incident Period: 08/26/2021 through 09/03/2021.

DATES: Issued on 12/14/2021.

Physical Loan Application Deadline Date: Filing Period for the parishes listed below ends on 01/13/2022. Filing Period for the previously declared parishes ends on 12/28/2021.

Economic Injury (EIDL) Loan Application Deadline Date: 06/07/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Louisiana, dated 09/07/2021, is hereby amended to include the parishes listed below. Please contact the SBA disaster assistance customer service center by email at disastercustomerservice@sba.gov or by phone at 1-800-659-2955 to request an application. Applications for physical damages for previously declared parishes may be filed until 12/28/2021. Applications for physical damages for the parishes listed below may be filed until 01/13/2022. Applications for economic injury may be filed until 06/07/2022.

Primary Parishes:Ascension, Assumption, East Baton Rouge, East Feliciana, Iberville, Livingston, Pointe Coupee, Saint Helena, Saint Martin, Saint Mary, West Feliciana.

All other information in the original declaration remains unchanged.

(Catalog of Federal Domestic Assistance Number 59008)

Barbara Carson,
Acting Associate Administrator for Disaster Assistance.

[FR Doc. 2021-27693 Filed 12-21-21; 8:45 am]

BILLING CODE 8026-03-P